FEDERAL COMMUNICATIONS COMMISSION

[Report No. 2494]

Petitions for Reconsideration of Action in Rulemaking Proceeding

July 5, 2001.

Petitions for Reconsideration have been filed in the Commission's rulemaking proceeding listed in this Public Notice and published pursuant to 47 CFR 1.429(e). The full text of these documents are available for viewing and copying in Room CY-A257, 445 12th Street, SW., Washington, DC or may be purchased from the Commission's copy contractor, ITS, Inc. (202) 857-3800. Oppositions to these petitions must be filed by July 26, 2001. See § 1.4(b)(1) of the Commission's rules (47 CFR 1.4(b)(1)). Replies to an opposition must be filed within 10 days after the time for filing oppositions has expired.

Subject: Amendment of FM Table of Allotments (MM Docket No. 98-159).

Number of Petitions Filed: 1.

Subject: Amendment of FM Table of Allotments (MM Docket No. 01-33).

Number of Petitions Filed: 1.

Federal Communications Commission.
Magalie Roman Salas,
Secretary.

[FR Doc. 01-17257 Filed 7-10-01; 8:45 am]

BILLING CODE 6712-01-M